DEPARTMENT OF TRANSPORTATION

Federal Aviation Administration

14 CFR Part 39

[Docket No. 2002-NM-43-AD; Amendment 39-13039; AD 2003-03-15]

RIN 2120-AA64

Airworthiness Directives; Various Boeing and McDonnell Douglas Transport Category Airplanes

AGENCY: Federal Aviation Administration, DOT.

ACTION: Final rule.

SUMMARY: This amendment adopts a new airworthiness directive (AD), applicable to various Boeing and McDonnell Douglas transport category airplanes. This AD requires revising the Airplane Flight Manual (AFM) to advise the flightcrew to don oxygen masks as a first and immediate step when the cabin altitude warning horn sounds. This action is necessary to prevent incapacitation of the flightcrew due to lack of oxygen, which could result in loss of control of the airplane. This action is intended to address the identified unsafe condition.

DATES: Effective March 7, 2003.

ADDRESSES: Information pertaining to this AD may be examined at the Federal Aviation Administration (FAA), Transport Airplane Directorate, Rules Docket, 1601 Lind Avenue, SW., Renton, Washington; or at the FAA, Los Angeles Aircraft Certification Office, 3960 Paramount Boulevard, Lakewood, California.

FOR FURTHER INFORMATION CONTACT: Boeing Airplane Models: Don Eiford, Aerospace Engineer, Systems and Equipment Branch, ANM-130S, FAA, Seattle Aircraft Certification Office, 1601 Lind Avenue, SW., Renton, Washington 98055-4056; telephone (425) 227-2788; fax (425) 227-1181.

McDonnell Douglas Airplane Models: Joe Hashemi, Aerospace Engineer, Flight Test Branch, ANM-160L, FAA, Los Angeles Aircraft Certification Office, 3960 Paramount Boulevard, Lakewood, California 90712-4137; telephone (562) 627-5380; fax (562) 627-5210.

SUPPLEMENTARY INFORMATION: A proposal to amend part 39 of the Federal Aviation Regulations (14 CFR part 39) to include an airworthiness directive (AD) that is applicable to various Boeing and McDonnell Douglas transport category airplanes was published in the Federal Register on June 26, 2002 (67 FR 43058). That action proposed to require revising the Airplane Flight Manual (AFM) to advise the flightcrew to don oxygen masks as a first and immediate step when the cabin altitude warning horn sounds.

Comments

Interested persons have been afforded an opportunity to participate in the making of this amendment. Due consideration has been given to the comments received.

Support for the Proposed AD

One commenter supports the proposed AD, and another commenter states that it has surveyed its fleet and is already in compliance with the proposed AD.

Request To Expand Applicability of Proposed AD

One commenter notes an inconsistency in the proposed AD. In the preamble of the proposed AD, the FAA states that appropriate instructions for donning emergency oxygen masks are already contained in the AFM for Boeing Model 737-600, -700, -800, and “900 series airplanes. Thus, those airplanes are not included in the applicability of the proposed AD. The commenter points out, however, that the AFM for Boeing Model 737-600, -700, -800, and -900 series airplanes contains wording similar to that in the AFM for Boeing Model 737-300, -400, and -500 series airplanes, which are included in the applicability of the proposed AD. The commenter also notes that the AFM for Boeing Model 757-300 series airplanes does not address the donning of crew oxygen masks during rapid depressurization, although the proposed AD states that the AFMs for 757 series airplanes contain appropriate instructions for donning oxygen masks. The commenter asks that we review all AFMs again to ensure that the AFM contains appropriate instructions.

We partially concur with the commenter's request. Where we state in the proposed AD that the AFMs for certain models already contain appropriate instructions for the donning of oxygen masks, we should have stated that either the AFM or the airplane operations manual (AOM) contains appropriate instructions for the donning of oxygen masks. For the models identified by the commenter, the AOM contains appropriate instructions for donning oxygen masks. For this reason, those airplanes were not included in the applicability of the proposed AD.

We acknowledge the commenter's concerns. Thus, we have repeated the review of AFMs of all airplanes that were not included in the proposed AD because correct instructions exist in the AOM. We are planning additional rulemaking to revise the AFMs for all airplane models that have inadequate instructions for donning oxygen masks.

The FAA does not agree that it is necessary to repeat the review of the AFMs for all transport category airplanes to ensure that instructions for donning oxygen masks are adequate. As we stated previously, the models identified by the commenter are all airplanes for which adequate instructions for donning oxygen masks are included in the AOM. As this is a specific and finite group of airplanes, and we have repeated the review of AFMs for this group, we find that it is unnecessary to repeat the review of the AFMs for all transport category airplanes. No change to this final rule is necessary in this regard.

Revise Figure 5 of Proposed AD

One commenter requests that we revise Figure 5 of the proposed AD, which contains revised AFM wording for McDonnell Douglas Model DC-9-10, -20, -30, -40, and -50 series airplanes. The commenter requests that the wording “If the cabin altitude warning horn sounds” be changed to “If a cabin altitude warning occurs.” The commenter's rationale is that not all DC-9 series airplanes have a cabin altitude warning horn. The commenter also requests that the words “crew oxygen mask” be revised to “crew oxygen masks” to match the wording of the original AFM.

We concur and have revised Figure 5 of this final rule accordingly.

Request To Omit Certain Wording From Other Documents

One commenter states that it finds the new AFM wording within the proposed AD acceptable and will revise its AFMs accordingly. However, in view of the deletion of the references to 14,000-feet altitude, the commenter requests that we not include references to 14,000 feet altitude in supplementary or separate AFM checklists or other documents. The commenter states no rationale for its request.

We acknowledge the commenter's request and will take steps to ensure that supplemental or separate AFM revisions do not contain the wording specified by the commenter. No change to this final rule is needed in this regard.

Conclusion

After careful review of the available data, including the comments noted above, the FAA has determined that air safety and the public interest require the adoption of the rule with the changes previously described. We have determined that these changes will neither increase the economic burden on any operator nor increase the scope of the AD.

Cost Impact

There are approximately 7,077 airplanes (5,178 Boeing airplanes and 1,899 McDonnell Douglas airplanes) of the affected designs in the worldwide fleet. The FAA estimates that 3,479 airplanes (2,392 Boeing airplanes and 1,087 McDonnell Douglas airplanes) of U.S. registry will be affected by this AD. It will take approximately 1 work hour per airplane to accomplish the required AFM revision, at an average labor rate of $60 per work hour. Based on these figures, the cost impact of this AD on U.S. operators is estimated to be $208,740, or $60 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-03-15 Transport Category Airplanes: Amendment 39-13039. Docket 2002-NM-43-AD.

Applicability: The airplanes listed in Table 1 of this AD, certificated in any category:

Table 1.—Affected Airplane Models
Airplane manufacturer | Airplane model
Boeing | 707 series airplanes
| 720 series airplanes
| 727 series airplanes
| 737-100 series airplanes
| 737-200 series airplanes
| 737-200C series airplanes
| 737-300 series airplanes
| 737-400 series airplanes
| 737-500 series airplanes
| 747-100 series airplanes
| 747-100B series airplanes
| 747-100B SUD series airplanes
| 747-200B series airplanes
| 747-200F series airplanes
| 747-200C series airplanes
| 747-300 series airplanes
| 747SR series airplanes
| 747SP series airplanes
McDonnell Douglas | DC-8-11 airplanes
| DC-8-12 airplanes
| DC-8-21 airplanes
| DC-8-31 airplanes
| DC-8-32 airplanes
| DC-8-33 airplanes
| DC-8-41 airplanes
| DC-8-42 airplanes
| DC-8-43 airplanes
| DC-8-51 airplanes
| DC-8-52 airplanes
| DC-8-53 airplanes
| DC-8F-54 airplanes
| DC-8-55 airplanes
| DC-8F-55 airplanes
| DC-8-61 airplanes
| DC-8-61F airplanes
| DC-8-62 airplanes
| DC-8-62F airplanes
| DC-8-63 airplanes
| DC-8-63F airplanes
| DC-8-71 airplanes
| DC-8-71F airplanes
| DC-8-72 airplanes
| DC-8-72F airplanes
| DC-8-73 airplanes
| DC-8-73F airplanes
| DC-9-11 airplanes
| DC-9-12 airplanes
| DC-9-13 airplanes
| DC-9-14 airplanes
| DC-9-15 airplanes
| DC-9-15F airplanes
| DC-9-21 airplanes
| DC-9-31 airplanes
| DC-9-32 airplanes
| DC-9-32 (VC-9C) airplanes
| DC-9-32F airplanes
| DC-9-32F airplanes (C-9A, C-9B)
| DC-9-33F airplanes
| DC-9-34 airplanes
| DC-9-34F airplanes
| DC-9-41airplanes
| DC-9-51 airplanes
| DC-9-81 (MD-81) airplanes
| DC-9-82 (MD-82) airplanes
| DC-9-83 (MD-83) airplanes
| DC-9-87 (MD-87) airplanes
| MD-88 airplanes
| MD-90-30 airplanes
| DC-10-10 airplanes
| DC-10-10F airplanes
| DC-10-15 airplanes
| DC-10-30 airplanes
| DC-10-30F airplanes
| DC-10-30F (KC-10A, KDC-10) airplanes
| DC-10-40 airplanes
| DC-10-40F airplanes
| MD-10-10F airplanes
| MD-10-30F airplanes
| MD-11 airplanes
| MD-11F airplanes

Compliance: Required as indicated, unless accomplished previously.

To prevent incapacitation of the flightcrew due to lack of oxygen, which could result in loss of control of the airplane, accomplish the following:

Revision to the Airplane Flight Manual

(a) Within 90 days after the effective date of this AD: For the applicable airplane models listed in the “For—” column of Table 2 of this AD, revise the procedures regarding donning oxygen masks in the event of rapid depressurization, as contained in the Emergency Procedures section of the FAA-approved Airplane Flight Manual (AFM), by replacing the text in the “Replace—” column of Table 2 of this AD with the information in the applicable figure referenced in the “With the Information In—” column of Table 2 of this AD. This may be accomplished by recording the AD number of this AD on the applicable figure and inserting it into the AFM. Table 2 and Figures 1 through 9 follow:

Table 2.—AFM Revisions
For— | Replace— | With the information in—
Boeing Model 707, 720, and 727 series airplanes | “RAPID DEPRESSURIZATION Oxygen Masks & Regulators—ON, 100% ALL” | Figure 1 of this AD.
Boeing Model 737-100, -200, and -200C series airplanes | “RAPID DEPRESSURIZATION (With airplane altitude above 14,000 feet M.S.L.) PRIMARY Oxygen Masks & Regulators—ON, 100%” | Figure 2 of this AD.
Boeing Model 737-300, 737-400, 737-500, 747-100, 747-100B, 747-100B SUD, 747-200B, 747-200F, 747-200C, 747-300, 747SR, and 747SP series airplanes | “RAPID DEPRESSURIZATION (With airplane altitude above 14,000 feet M.S.L.) RECALL Oxygen Masks & Regulators—ON, 100%” | Figure 3 of this AD.
McDonnell Douglas Model DC-8-11, DC-8-12, DC-8-21, DC-8-31, DC-8-32, DC-8-33, DC-8-41, DC-8-42, DC-8-43, DC-8-51, DC-8-52, DC-8-53, DC-8F-54 DC-8-55, DC-8F-55, DC-8-61, DC-8-61F, DC-8-62, DC-8-62F, DC-8-63, DC-8-63F, DC-8-71, DC-8-71F, DC-8-72, DC-8-72F, DC-8-73, and DC-8-73F airplanes | “RAPID DEPRESSURIZATION Phase I and II Crew oxygen mask—ON” | Figure 4 of this AD.
McDonnell Douglas Model DC-9-11, DC-9-12, DC-9-13, DC-9-14, DC-9-15, DC-9-15F, DC-9-21, DC-9-31, DC-9-32, DC-9-32 (VC-9C), DC-9-32F, DC-9-32F (C-9A, C-9B), DC-9-33F, DC-9-34, DC-9-34F, DC-9-41, and DC-9-51 airplanes | “RAPID DECOMPRESSION/EMERGENCY DESCENT Phase I and II Manual Pressurization Control— FULL FORWARD AND MANUALLY LOCKED Note: Manual Pressurization control forces may be high, apply forces as required Crew Oxygen Masks—ON” | Figure 5 of this AD.
McDonnell Douglas Model DC-9-81 (MD-81), DC-9-82 (MD-82), DC-9-83 (MD-83), DC-9-87 (MD-87), and MD-88 airplanes | “RAPID DECOMPRESSION/EMERGENCY DESCENT Phase I and II Manual Pressurization Control — FULL FORWARD AND MANUALLY LOCKED Note: Manual Pressurization control forces may be high, apply forces as required Crew Oxygen Masks—ON/EMERGENCY/100%” | Figure 6 of this AD.
McDonnell Douglas Model MD-90-30 airplanes | “RAPID DECOMPRESSION OXY MASKS—ON/100%/EMERGENCY” | Figure 7 of this AD.
McDonnell Douglas Model DC-10-10, DC-10-10F, DC-10-15, DC-10-30, DC-10-30F, DC-10-30F (KC-10A, KDC-10), DC-10-40, and DC-10-40F airplanes | “RAPID DEPRESSURIZATION/EMERGENCY DESCENT Recall Cabin OUTFLOW VALVE—VERIFY CLOSED (CLOSE ELECTRICALLY OR MANUALLY IF NOT CLOSED) Oxygen Masks — 100% (if required)” | Figure 8 of this AD.
McDonnell Douglas Model MD-10-10F, MD-10-30F, MD-11, and MD-11F airplanes | “CABIN ALTITUDE Memory Item Outflow Valve—Verify Closed” | Figure 9 of this AD.

Figure 1.—For Boeing Model 707, 720, and 727 Series Airplanes

Insert the information in this figure into the “Emergency Procedures” section of the FAA-approved Airplane Flight Manual.

* * * * * * *
“CABIN ALTITUDE WARNING OR RAPID DEPRESSURIZATION If the cabin altitude warning horn sounds: Oxygen Masks & Regulators—ON, 100%, ALL”
* * * * * * *

The rest of the steps under this heading in the AFM are unchanged.

Figure 2.—For Boeing Model 737-100, -200, and -200C Series Airplanes

Insert the information in this figure into the “Emergency Procedures” section of the FAA-approved Airplane Flight Manual.

* * * * * * *
“CABIN ALTITUDE WARNING OR RAPID DEPRESSURIZATION If the cabin altitude warning horn sounds: PRIMARY Oxygen Masks & Regulators—ON, 100%”
* * * * * * *

The rest of the steps under this heading in the AFM are unchanged.

Figure 3.—For Boeing Model 737-300, 737-400, 737-500, 747-100, 747-100B, 747-100B SUD, 747-200B, 747-200F, 747-200C, 747-300, 747SR, and 747SP Series Airplanes

Insert the information in this figure into the “Emergency Procedures” section of the FAA-approved Airplane Flight Manual.

* * * * * * *
“CABIN ALTITUDE WARNING OR RAPID DEPRESSURIZATION If the cabin altitude warning horn sounds: RECALL Oxygen Masks & Regulators—ON, 100%''
* * * * * * *

The rest of the steps under this heading in the AFM are unchanged.

Figure 4.—For McDonnell Douglas Model DC-8-11, DC-8-12, DC-8-21, DC-8-31, DC-8-32, DC-8-33, DC-8-41, DC-8-42, DC-8-43, DC-8-51, DC-8-52, DC-8-53, DC-8F-54, DC-8-55, DC-8F-55, DC-8-61, DC-8-61F, DC-8-62, DC-8-62F, DC-8-63, DC-8-63F, DC-8-71, DC-8-71F, DC-8-72, DC-8-72F, DC-8-73, and DC-8-73F Airplanes

Insert the information in this figure into the “Emergency Procedures” section of the FAA-approved Airplane Flight Manual.

* * * * * * *
“CABIN ALTITUDE WARNING OR RAPID DEPRESSURIZATION Phase I and II If the cabin altitude warning horn sounds: Crew oxygen mask—ON”
* * * * * * *

The rest of the steps under this heading in the AFM are unchanged.

Figure 5.—For McDonnell Douglas Model DC-9-11, DC-9-12, DC-9-13, DC-9-14, DC-9-15, DC-9-15F, DC-9-21, DC-9-31, DC-9-32, DC-9-32 (VC-9C), DC-9-32F, DC-9-32F (C-9A, C-9B), DC-9-33F, DC-9-34, DC-9-34F, DC-9-41, and DC-9-51 Airplanes

Insert the information in this figure into the “Emergency Procedures” section of the FAA-approved Airplane Flight Manual.

* * * * * * *
“CABIN ALTITUDE WARNING OR RAPID DECOMPRESSION/EMERGENCY DESCENT Phase I and II If a cabin altitude warning occurs: Crew Oxygen Masks—ON Manual Pressurization Control—FULL FORWARD AND MANUALLY LOCKED Note: Manual Pressurization control forces may be high, apply forces as required.”
* * * * * * *

The rest of the steps under this heading in the AFM are unchanged.

Figure 6.—For McDonnell Douglas Model DC-9-81 (MD-81), DC-9-82 (MD-82), DC-9-83 (MD-83), DC-9-87 (MD-87), and MD-88 Airplanes

Insert the information in this figure into the “Emergency Procedures” section of the FAA-approved Airplane Flight Manual.

* * * * * * *
“CABIN ALTITUDE WARNING OR RAPID DECOMPRESSION/EMERGENCY DESCENT Phase I and II If the cabin altitude warning horn sounds: Crew Oxygen Mask—ON/EMERGENCY/100% Manual Pressurization Control—FULL FORWARD AND MANUALLY LOCKED Note: Manual Pressurization control forces may be high, apply forces as required.”
* * * * * * *

The rest of the steps under this heading in the AFM are unchanged.

Figure 7.—For McDonnell Douglas MD-90-30 Airplanes

Insert the information in this figure into the “Emergency Procedures” section of the FAA-approved Airplane Flight Manual.

* * * * * * *
“CABIN ALTITUDE WARNING OR RAPID DECOMPRESSION If the cabin altitude warning horn sounds: • OXY MASKS—ON/100%/EMERGENCY”
* * * * * * *

The rest of the steps under this heading in the AFM are unchanged.

Figure 8.—For McDonnell Douglas Model DC-10-10, DC-10-10F, DC-10-15, DC-10-30, DC-10-30F, DC-10-30F (KC-10A, KDC-10), DC-10-40, and DC-10-40F Airplanes:

Insert the information in this figure into the “Emergency Procedures” section of the FAA-approved Airplane Flight Manual.

* * * * * * *
“CABIN ALTITUDE WARNING OR RAPID DEPRESSURIZATION/EMERGENCY DESCENT Recall If the cabin altitude warning horn sounds: Oxygen Masks—100% Cabin OUTFLOW VALVE—VERIFY CLOSED (CLOSE ELECTRICALLY OR MANUALLY IF NOT CLOSED)”
* * * * * * *

The rest of the steps under this heading in the AFM are unchanged.

Figure 9.—For McDonnell Douglas Model MD-10-10F, MD-10-30F, MD-11, and MD-11F Airplanes:

Insert the information in this figure into the “Emergency Procedures” section of the FAA-approved Airplane Flight Manual.

* * * * * * *
“CABIN ALTITUDE WARNING OR CABIN ALTITUDE If the cabin altitude warning horn sounds: Memory Item Oxygen Masks—ON/100%/EMERGENCY Outflow Valve—Verify Closed”
* * * * * * *

The rest of the steps under this heading in the AFM are unchanged.

Alternative Methods of Compliance

(b) An alternative method of compliance or adjustment of the compliance time that provides an acceptable level of safety may be used if approved by the Manager, Seattle Aircraft Certification Office (ACO), FAA; or the Manager, Los Angeles ACO, FAA; as applicable. Operators shall submit their requests through an appropriate FAA Principal Operations Inspector, who may add comments and then send it to the Manager, Seattle ACO, or Los Angeles ACO, as applicable.

Note: Information concerning the existence of approved alternative methods of compliance with this AD, if any, may be obtained from the Seattle ACO or the Los Angeles ACO, as applicable.

Special Flight Permits

(c) Special flight permits may be issued in accordance with sections 21.197 and 21.199 of the Federal Aviation Regulations (14 CFR 21.197 and 21.199) to operate the airplane to a location where the requirements of this AD can be accomplished.

Effective Date

(d) This amendment becomes effective on March 7, 2003.

Issued in Renton, Washington, on January 24, 2003.
Ali Bahrami,
Acting Manager, Transport Airplane Directorate, Aircraft Certification Service.

[FR Doc. 03-2147 Filed 1-30-03; 8:45 am]

BILLING CODE 4910-13-P